DEPARTMENT OF AGRICULTURE

Natural Resources Conservation Service

Task Force on Agricultural Air Quality

AGENCY: Natural Resources Conservation Service, USDA.

ACTION: Notice of meeting.

SUMMARY: The Agricultural Air Quality Task Force (AAQTF) will meet to continue discussions on critical air quality issues in relation to agriculture. Special emphasis will be placed on obtaining a greater understanding about the relationship between agricultural production and air quality. The meeting is open to the public and a draft agenda of the meeting is attached.

DATES: The meeting will convene on Wednesday, July 21, 2004, at 8 a.m., and continue until 5 p.m.; resume Thursday, July 22, 2004, from 8 a.m. to 4 p.m. Individuals with written materials, and those who have requests to make oral presentations, should contact the Natural Resources Conservation Service (NRCS), at the address below on or before July 12, 2004.

ADDRESSES: The meeting will be held at the Best Western Coeur d'Alene Inn, 414 West Appleway, Coeur d'Alene, Idaho 83814; telephone: (1-800) 359-7234. Written material and requests to make oral presentations should be sent to Elvis L. Graves, Acting Designated Federal Official, USDA, Natural Resources Conservation Service, Post Office Box 2890, Room 6158-S, Washington, DC 20013.

FOR FURTHER INFORMATION, CONTACT: Questions or comments should be directed to Elvis L. Graves, Acting Designated Federal Official; telephone: (202) 720-3905; fax: (202) 720-2646; e-mail: elvis.graves@usda.gov.

SUPPLEMENTARY INFORMATION: Notice of this meeting is given under the Federal Advisory Committee Act, 5 U.S.C. App. 2. Additional information concerning AAQTF, including any revised agendas for the July 21-22, 2004, meeting that occur after this Federal Register notice is published, may be found on the World Wide Web at http://aaqtf.tamu.edu.

Draft Agenda of the July 21 and 22, 2004, Meeting of the AAQTF

A. Welcome to Idaho

1. USDA, NRCS and local officials

B. Discussion of Federal Advisory Committee Act status

C. USDA Update

1. Natural Resources Conservation Service

2. Agricultural Research Service

3. Cooperative State Research, Education, and Extension Service

4. Forest Service

D. Environmental Protection Agency Update

1. Program Implementation and Designations

2. Non-Road Diesel Rule

3. Other issues

E. New Topics

1. Discussion of goals for Task Force during this charter

2. National Research Council—Air Quality Management in the United States

3. External speaker'to be decided upon

4. Committee Reports

F. Next Meeting, Time/Place

G. Public Input

(Time will be reserved before lunch and at the close of each daily session to receive public comment. Individual presentations will be limited to 5 minutes.)

Procedural

This meeting is open to the public. At the discretion of the Chair, members of the public may give oral presentations during the meeting. Persons wishing to make oral presentations should notify Mr. Graves no later than July 12, 2004. If a person submitting material would like a copy distributed to each member of the committee in advance of the meeting, that person should submit 30 copies to Mr. Graves no later than July 12, 2004.

Information on Services for Individuals With Disabilities

For information on facilities or services for individuals with disabilities, or to request special assistance at the meeting, contact Mr. Graves. USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). The USDA is an equal opportunity provider and employer.

Signed in Washington, DC, on June 25, 2004.
Bruce I. Knight,
Chief, Natural Resources Conservation Service.

[FR Doc. 04-15703 Filed 7-9-04; 8:45 am]

BILLING CODE 3410-16-U